DEPARTMENT OF COMMERCE

National Oceanic and Atmospheric Administration

Meeting of the Advisory Committee on Commercial Remote Sensing

ACTION: Notice of meeting.

SUMMARY: The Advisory Committee on Commercial Remote Sensing (“ACCRES”) will meet for 2 half-day meetings on November 3-November 4, 2021.

DATES: The meeting is scheduled as follows: November 3-November 4, 2021 from 11:00 a.m.-3:00 p.m. Eastern Daylight Time (EDT) each day.

ADDRESSES: The meeting will be a hybrid event with the Committee convening “in person” at the Herbert C. Hoover Building, 1401 Constitution Avenue NW, Washington, DC, and any public participants can attend virtually via GoToWebinar.

FOR FURTHER INFORMATION CONTACT: Tahara Dawkins, NOAA/NESDIS/CRSRA, 1335 East West Highway, G-101, Silver Spring, Maryland 20910; 301-427-2560 or CRSRA@noaa.gov.

SUPPLEMENTARY INFORMATION: As required by Section 10(a)(2) of the Federal Advisory Committee Act, 5 U.S.C. App. (FACA) and its implementing regulations, see 41 CFR 102-3.150, notice is hereby given of the meeting of ACCRES. ACCRES was established by the Secretary of Commerce (Secretary) on May 21, 2002, to advise the Secretary through the Under Secretary of Commerce for Oceans and Atmosphere on matters relating to the U.S. commercial remote sensing space industry and on the National Oceanic and Atmospheric Administration's activities to carry out the responsibilities of the Department of Commerce set forth in the National and Commercial Space Programs Act of 2010 (51 U.S.C. 60101 et seq.).

Purpose of the Meeting and Matters To Be Considered

The meeting will be open to the public pursuant to Section 10(a)(1) of the FACA. During the meeting, the Committee will hear Commercial Satellite Imaging regulation from International Regulators, and from U.S. government leadership on their vision for the development of the Remote Sensing industry.

Additional Information and Public Comments

The meeting will be held over two half-days and will be conducted via GoToWebinar. Please register for the meeting through the link: https://attendee.gotowebinar.com/rt/4789727055944349455. This event is accessible to individuals with disabilities. For all other special accommodation requests, please contact CRSRA@noaa.gov. This webinar is a NOAA ACCRES public meeting and will be recorded and transcribed. If you have a public comment, you acknowledge you may be recorded and are aware you can opt out of the meeting. Both the meeting minutes and presentations will be posted to the ACCRES website. The agenda, speakers and times are subject to change. For updates, please check online at https://www.nesdis.noaa.gov/CRSRA/accresMeetings.html.

Public comments are encouraged. Individuals or groups who would like to submit advance written comments, please email them to Tahara.Dawkins@noaa.gov, and CRSRA@noaa.gov.

Stephen M. Volz,
Assistant Administrator for Satellite and Information Services.

[FR Doc. 2021-22907 Filed 10-20-21; 8:45 am]

BILLING CODE 3510-HR-P